DEPARTMENT OF AGRICULTURE

Office of the Secretary

Notice of Request for Revision of a Currently Approved Information Collection

AGENCY: Office of Advocacy and Outreach/1890 Programs

ACTION: Notice and request for comments.

SUMMARY: In accordance with the Paperwork Reduction Act of 1995 (44 U.S.C. Chapter 35), this notice announces the Office of Advocacy and Outreach/1890 Programs intention to request an extension for a currently approved information collection for the USDA/1890 National Scholars Program.

DATES: Comments on this notice must be received May 8, 2012.

Additional Information or Comments: Contact Mona Adkins-Easley, Higher Education Initiatives Program Lead, U.S. Department of Agriculture, 1400 Independence Ave. SW., 530-A, Whitten Building, Washington, DC 20250 or call 202-692-0251(O) or 202-720-7136 (Fax).

SUPPLEMENTARY INFORMATION: Title: USDA/1890 National Scholars Program Application.

OMB Number: 0503-0015.

Expiration Date of Approval: June 30, 2012.

Type of Request: Extension of a currently approved information collection.

Abstract: The USDA/1890 National Scholars Program is a joint human capital initiative between the U.S. Department of Agriculture (USDA) and the 1890 Historically Black Land-Grant Universities. Through the Program, USDA offers scholarships to high school and college students who are seeking a bachelor's degree in the fields of agriculture, food, or natural resource sciences and related disciplines at 1890 Land-Grant Universities. In order for graduating high school students and current freshman and sophomores to be considered for the scholarship, a completed application is required. The first section of the high school application requests the applicant to include biographical information (i.e. name, address, age, etc.); educational background information (i.e. grade point average, test scores, name of university(ies) interested in attending and desired major); and extracurricular activities. The second section of the application is completed by the student's guidance counselor and requests information pertaining to the student's academic status, graduate point average, and test scores. The last section of the application, which is to be completed by a teacher, provides information that assesses the applicant's interests, habits, and potential. The first section of the college application requests the applicant to include biographical information (i.e. name, address, age, etc.); educational background information (i.e. grade point average, test scores, name of university(ies) interested in attending and desired major); extracurricular activities, and an essay. Two letters of recommendation are required by a Department Head, Dean of a College or one of the University Vice President and a College Professor, however, there are not sections included in the application that these individuals will need to complete.

Estimate of Burden: Public reporting burden for this collection of information is estimated to average 1 hour per response.

Respondents: High School Students, Freshman and Sophomore College Students, Teachers, and Guidance Counselors.

Estimated Number of Respondents: 2,400 (600 applications).

Estimated Number of Responses per Respondent: 1.

Estimated Total Annual Burden on Respondents: 7,200 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Mona Adkins-Easley, Higher Education Initiatives Program Lead, U.S. Department of Agriculture, 1400 Independence Ave. SW., 530-A, Whitten Building, Washington, DC 20250. All comments received will be available for public inspection during regular business hours at the same address.

All responses to this notice will be summarized and included in the request for OMB approval. All comments will become a matter of public record.

Pearlie S. Reed,
Assistant Secretary for Administration.

[FR Doc. 2012-5649 Filed 3-8-12; 8:45 am]

BILLING CODE P